DEPARTMENT OF JUSTICE

Antitrust Division

Notice Pursuant to the National Cooperative Research

And Production Act of 1993—American Massage Therapy Association

Notice is hereby given that, on March 18, 2014, pursuant to Section 6(a) of the National Cooperative Research and Production Act of 1993, 15 U.S.C. 4301 et seq. (“the Act”), American Massage Therapy Association (“AMTA”) has filed written notifications simultaneously with the Attorney General and the Federal Trade Commission disclosing additions or changes to its standards development activities. The notifications were filed for the purpose of extending the Act's provisions limiting the recovery of antitrust plaintiffs to actual damages under specified circumstances. Specifically, since its initial filing, AMTA, in cooperation with the Alliance for Massage Therapy Education, Associated Bodywork & Massage Professionals, the Commission on Massage Therapy Accreditation, the Federation of State Massage Therapy Boards, the Massage Therapy Foundation, and the National Certification Board for Therapeutic Massage & Bodywork, has published a final report and curriculum blueprint of basic, voluntary standards for the entry-level curriculum necessary for safe and competent practice in an early massage career, including the recommended minimum number of hours required to teach the essential components of the entry-level curriculum.

On June 24, 2013, AMTA filed its original notification pursuant to Section 6(a) of the Act. The Department of Justice published a notice in the Federal Register pursuant to Section 6(b) of the Act on July 18, 2013 (78 FR 42975).

Patricia A. Brink,
Director of Civil Enforcement, Antitrust Division.

[FR Doc. 2014-08521 Filed 4-14-14; 8:45 am]

BILLING CODE P